NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 27, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Logistics Agency (N1-361-10-2, 1 item, 1 temporary item). Master files of an electronic information system containing reference copies of material safety data sheets and transportation and logistical information related to handling hazardous materials

2. Department of Homeland Security, U.S. Immigration and Customs Enforcement (N1-567-12-1, 1 item, 1 temporary item). Master files of an electronic information system used for financial data analysis and reporting.

3. Department of the Interior, Bureau of Land Management (N1-49-11-1, 1 item, 1 temporary item). Records documenting compliance with Federal information technology laws and regulations.

4. Department of State, Bureau of Diplomatic Security (DAA-0059-2012-0001, 6 items, 6 temporary items). Records of the Office of Domestic Facilities Protection documenting the application, authorization, and implementation of personnel identification cards, administrative records related to agents credentials, personnel services and contractors, property receipt and survey records, and master files of electronic information systems used to store facility security information and create access profiles for individuals with access to department domestic facilities.

5. Department of State, Bureau of Educational and Cultural Affairs (DAA-0059-2012-0009, 3 items, 3 temporary items). Records related to the International Visitor Leadership Program, including project files, grants, and agreement files.

6. Department of Transportation, Federal Transit Administration (N1-408-12-1, 1 item, 1 temporary item). Master files of an electronic information system related to grants management.

7. Department of Veterans Affairs, Veterans Health Administration (N1-15-12-01, 1 item, 1 temporary item). Records related to quality control of tissue transplantation activities.

8. Office of the Director of National Intelligence, Public Affairs Office (N1-576-11-4, 14 items, 8 temporary items). Records include invitations for speaking engagements, internal communications, daily news clips, internal and external Web page material, review logs, non-substantive drafts, and reference materials. Proposed for permanent retention are policy and strategic plans, outreach files, press releases, official agency communications, and substantive working papers.

9. Office of Personnel Management, Federal Investigative Services (DAA-0478-2012-0002, 2 items, 2 temporary items). Training manuals, syllabi, textbooks, and other materials used to evaluate and accredit law enforcement training programs.

10. Office of Personnel Management, Federal Investigative Services (DAA-0478-2012-0003, 2 items, 2 temporary items). Master files of an electronic information system used to support background investigations.

Dated: November 19, 2012.
Paul M. Wester, Jr.,
Chief Records Officer for the U.S. Government.

[FR Doc. 2012-28663 Filed 11-26-12; 8:45 am]

BILLING CODE 7515-01-P